ENVIRONMENTAL PROTECTION AGENCY

40 CFR Part 52

[EPA-R06-OAR-2011-0938; FRL-9925-86-Region 6]

Approval and Promulgation of Implementation Plans; New Mexico; Transportation Conformity and Conformity of General Federal Actions

AGENCY: Environmental Protection Agency (EPA).

ACTION: Withdrawal of direct final rule.

SUMMARY: On February 10, 2015, the Environmental Protection Agency (EPA) published a direct final rule approving revisions to the New Mexico State Implementation Plan (SIP). These revisions amend the State transportation conformity provisions and remove the State general conformity provisions from the SIP, as allowed by the 2005 amendments to the Clean Air Act (CAA). The direct final rule was published without prior proposal because EPA anticipated no adverse comments. EPA stated in the direct final rule that if EPA received relevant, adverse comments by March 12, 2015, EPA would publish a timely withdrawal in the Federal Register. EPA received a relevant, adverse comment on March 10, 2015, and accordingly is withdrawing the direct final rule, and in a separate subsequent final rulemaking will address the comment received. The withdrawal is being taken pursuant to section 110 of the CAA.

DATES: The direct final rule published on February 10, 2015 (80 FR 7341), is withdrawn effective April 8, 2015.

FOR FURTHER INFORMATION CONTACT: Mr. Jeffrey Riley (6PD-L), Air Planning Section, telephone (214) 665-8542, fax (214) 665-6762, email: riley.jeffrey@epa.gov.

SUPPLEMENTARY INFORMATION: On February 10, 2015, EPA published a direct final rule approving revisions to the New Mexico SIP. These revisions amend the State transportation conformity provisions and remove the State general conformity provisions from the SIP, as allowed by the 2005 amendments to the CAA. The direct final rule was published without prior proposal because EPA anticipated no adverse comments. EPA stated in the direct final rule that if relevant, adverse comments were received by March 12, 2015, EPA would publish a timely withdrawal in the Federal Register. EPA received a comment on March 10, 2015 from the Sierra Club stating in relevant part, that an Acting Regional Administrator cannot sign approvals, disapprovals, or any combination of approvals or disapproval, in whole or in part, due to the fact that the authority to act on agency actions on state implementation plans is delegated only to, and therefore can only be signed by, the Regional Administrator. EPA considers this a relevant, adverse comment and accordingly is withdrawing the direct final rule. In a separate subsequent final rulemaking EPA will address the comment received. The withdrawal is being taken pursuant to section 110 of the CAA.

List of Subjects in 40 CFR Part 52

Environmental protection, Air pollution control, Carbon Monoxide, Incorporation by reference, Intergovernmental relations, Lead, Nitrogen dioxides, Ozone, Particulate matter, Reporting and recordkeeping requirements, Sulfur oxides, Volatile organic compounds.

Dated: March 31, 2015.
Ron Curry,
Regional Administrator, Region 6.

Accordingly, the amendments to 40 CFR 52.1620 published in the Federal Register on February 10, 2015 (80 FR 7341), which were to become effective on April 13, 2015, are withdrawn.

[FR Doc. 2015-07995 Filed 4-8-15; 8:45 am]

BILLING CODE 6560-50-P